DEPARTMENT OF AGRICULTURE

National Institute of Food and Agriculture

Solicitation of Input From Stakeholders Regarding the New Water Challenge Area Within the Agriculture and Food Research Initiative

AGENCY: National Institute of Food and Agriculture, USDA.

ACTION: Notice of web-based listening session and request for stakeholder input.

SUMMARY: As part of the National Institute of Food and Agriculture's (NIFA) strategy to successfully implement the Agriculture and Food Research Initiative (AFRI), NIFA intends to initiate a new challenge area within AFRI in Fiscal Year (FY) 2014 to address water issues. NIFA will be holding a web-based listening session in order to solicit stakeholder input on this new challenge area. It is open to the public and the focus of the listening session is to gather stakeholder input that will be used in developing the Request for Applications (RFA) in FY 2014. NIFA is particularly interested in input on how best to achieve the most impact, within budget constraints, in the early years of this new challenge area.

All comments must be received by close of business on July 30, 2013, to be considered in the initial drafting of the FY 2014 AFRI Water program RFA.

DATES: The web-based listening session will be held on Tuesday, July 16, 2013, from 1:00 p.m. to 3:00 p.m., Eastern Standard Time (EST). All written comments must be received by 5 p.m. EST on Tuesday, July 30, 2013.

ADDRESSES: The web-based listening session will be hosted using Adobe Connect. On July 16th, please access the following Web site, http://nifa-connect.nifa.usda.gov/afri-water/. In addition, audio conference call capabilities can be accessed at 1-888-858-2144, participant code 1512861#.

You may submit written comments, identified by NIFA-2013-0010, by any of the following methods:

Federal eRulemaking Portal: http://www.regulations.gov. Follow the instructions for submitting comments.

Email: AFRI@nifa.usda.gov. Include NIFA-2013-0010 in the subject line of the message.

Fax: 202-401-1782.

Mail: Paper, disk or CD-ROM submissions should be submitted to AFRI; Institute of Food Production and Sustainability (IFPS), National Institute of Food and Agriculture, U.S. Department of Agriculture, STOP 2240, 1400 Independence Avenue SW., Washington, DC 20250-2220.

Hand Delivery/Courier: AFRI, IFPS, National Institute of Food and Agriculture, U.S. Department of Agriculture, Room 3444, Waterfront Centre, 800 9th Street SW., Washington, DC 20024.

Instructions: All submissions received must include the agency name (NIFA) and reference to NIFA-2013-0010. All comments received will be posted to http://www.regulations.gov, including any personal information provided.

FOR FURTHER INFORMATION CONTACT: Ms. Terri Joya, (202) 401-1282 (phone), (202) 401-1782 (fax), or tjoya@nifa.usda.gov.

SUPPLEMENTARY INFORMATION: Additional Web-based Listening Session and Comment Procedures—Persons wishing to present oral comments during the web-based listening session on Tuesday, July 16, 2013 are requested to pre-register by contacting Ms. Terri Joya at (202) 401-1282, by fax at (202) 401-1782 or by email to tjoya@nifa.usda.gov. Participants may reserve one 5-minute comment period. More time may be available, depending on the number of people wishing to make a presentation. Reservations will be confirmed on a first-come, first-served basis. All other participants may provide comments during the web-based listening session if time permits, or submit written comments. All written comments must be received by close of business July 30, 2013, to be considered. All comments and the official transcript of the meeting, when they become available, may be reviewed on the NIFA Web page, http://www.nifa.usda.gov/funding/afri/afri_listen_session.html for six months. Additional AFRI Program-specific web-based listening sessions may occur after July 16, 2013 to obtain public comments for use in developing other AFRI RFAs. Dates and times will be posted to the following URL: http://www.nifa.usda.gov/funding/afri/afri_faq_webinars.html.

Background and Purpose

Significant variations from the historical rate of water supply and availability are projected to have major impacts on agricultural, forest, and range production systems. The new water program area within AFRI will be coordinated with, and leverage, efforts in other AFRI challenge areas, such as the Food Security, Food Safety, Climate Variability and Change and Sustainable Bioenergy challenge areas, and help solve critical water resource problems in rural and agricultural watersheds across the United States. The program will focus on developing solutions for water management that link food, water, climate change, energy, and environmental issues. Funding will be used to develop and transfer management practices, technologies, and tools for farmers, ranchers, forest owners and managers, and citizens to improve water resource quantity and quality. NIFA's approach will link social, economic, and behavioral sciences with traditional biophysical sciences and engineering to address watershed- or aquifer-scale problems. NIFA has tentatively identified three critical topics that warrant immediate, comprehensive, and coordinated efforts in research, education, and extension. These three topics are: (1) Ensuring agricultural water security, addressing surface water, groundwater and reclaimed water needed to produce a wide array of agricultural goods and services now and into the future; (2) Improving nutrient management in agricultural landscapes with focus on nitrogen and phosphorous; and (3) Reducing impacts of chemicals of emerging concern and the presence and movement of waterborne pathogens in the landscape. Information regarding the AFRI program can be found at http://www.nifa.usda.gov/funding/afri/afri.html. AFRI grants are authorized for FYs 2009-2013, of which the Secretary may retain no more than 4 percent for administrative costs. Grants will be awarded on the basis of merit, quality, and relevance and may have terms of up to 10 years. Subject to the availability of appropriations to carry out the research component of the AFRI program, the Secretary may award grants to State agricultural experiment stations; colleges and universities; university research foundations; other research institutions and organizations; Federal agencies; national laboratories; private organizations or corporations; individuals; or any group consisting of two or more of the aforementioned entities. The integrated component of the AFRI program, the Secretary may awards grants to colleges and universities; 1994 Land-Grant Institutions; and Hispanic-serving agricultural colleges and universities.

Implementation Plans

NIFA plans to consider stakeholder input received from this web-based listening session as well as other written comments in developing the FY 2014 solicitations for this program.

Done at Washington, DC, this 26th day of June, 2013.
Sonny Ramaswamy,
Director, National Institute of Food and Agriculture.

[FR Doc. 2013-16204 Filed 7-5-13; 8:45 am]

BILLING CODE 3410-22-P